ENVIRONMENTAL PROTECTION AGENCY

[EPA-HQ-OPP-2017-0751; FRL-11376-02-OCSPP]

Pesticide Registration Review; Decisions and Case Closures for Several Pesticides; Notice of Availability; Technical Correction

AGENCY: Environmental Protection Agency (EPA).

ACTION: Notice, correction.

SUMMARY: In the Federal Register of October 18, 2023, EPA issued a notice to announce the availability of EPA's interim registration review decisions for the following chemicals: Citric acid and salts, and linalool; and the closure of the registration review case for triadimenol. That notice incorrectly included a DATES section that established a comment deadline of December 18, 2023. A comment period is not necessary or appropriate for that document because the decisions announced in that document are final for triadimenol, and final for the interim phase of the process for citric acid and salts, and linalool. This document corrects that document by reaffirming the nature of all the decisions announced in that document and by closing the comment period it incorrectly established.

DATES: The comment period established in the Federal Register of October 18, 2023, i.e., December 18, 2023, is hereby closed on November 24, 2023.

ADDRESSES: The docket for this action, identified by docket identification (ID) number EPA-HQ-OPP-2017-0751, is available online at https://www.regulations.gov. Additional instructions for visiting the docket, along with more information about dockets generally, is available at https://www.epa.gov/dockets.

FOR FURTHER INFORMATION CONTACT:

For pesticide specific information, contact: The Chemical Review Manager for the pesticide of interest identified in Table 1 in Unit IV. of the original notice (88 FR 71856, October 18, 2023 (FRL-11376-01-OCSPP)).

For general information on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION: Pursuant to 40 CFR 155.58, EPA issued a notice in the Federal Register of October 18, 2023 (88 FR 71856) (FRL-11376-01-OCSPP), to announce the availability of EPA's interim registration review decisions for the following chemicals: Citric acid and salts, and linalool; and the closure of the registration review case for triadimenol. As described in that document, EPA previously sought public comment on the proposed interim registration review decisions as discussed in the pesticide specific interim decisions that were posted to the dockets. In addition, that notice announced the closure of the registration review case for triadimenol (Case Number 7008, Docket ID Number EPA-HQ-OPP-2016-0114) because the last U.S. registrations for this pesticide has been canceled.

Subsequent to the publication of that notice, EPA identified that it incorrectly included a DATES section that established a comment deadline of December 18, 2023. A comment period is not necessary or appropriate for that document because the decisions announced in that document are complete. As a result, EPA is issuing this document to reaffirm the nature of the decisions announced in that document and to closing the comment period it incorrectly established.

Background on the registration review program is provided at: https://www.epa.gov/pesticide-reevaluation.

Authority: 7 U.S.C. 136 et seq.

Dated: November 20, 2023.
Mary Elissa Reaves,
Director, Pesticide Re-Evaluation Division, Office of Pesticide Programs.

[FR Doc. 2023-25941 Filed 11-22-23; 8:45 am]

BILLING CODE 6560-50-P